DEPARTMENT OF EDUCATION

Applications for New Awards; Technical Assistance and Dissemination To Improve Services and Results for Children With Disabilities—National Center for Students With Disabilities Who Require Intensive Intervention

AGENCY: Office of Special Education and Rehabilitative Services, Department of Education.

ACTION: Notice.

SUMMARY: Overview Information: Technical Assistance and Dissemination to Improve Services and Results for Children with Disabilities—National Center for Students with Disabilities Who Require Intensive Intervention

Notice inviting applications for a new award for fiscal year (FY) 2016.

Catalog of Federal Domestic Assistance (CFDA) Number: 84.326Q.

DATES: Applications Available: March 14, 2016.

Deadline for Transmittal of Applications: April 28, 2016.

Deadline for Intergovernmental Review: June 27, 2016.

SUPPLEMENTARY INFORMATION:

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute (see sections 663 and 681(d) of the Individuals with Disabilities Education Act (IDEA)).

Absolute Priority: For FY 2016 and any subsequent year in which we make awards from the list of unfunded applications from this competition, this priority is an absolute priority. Under 34 CFR 75.105(c)(3), we consider only applications that meet this priority.

This priority is:

National Center for Students with Disabilities Who Require Intensive Intervention.

Background:

Providing effective evidence-based (as defined in this notice) instruction and intervention for all students, including students with disabilities, is critical for their success in postsecondary settings. Recent data demonstrate that academic and behavioral outcomes for students with disabilities continue to be poor.

In 2015, for example, a large proportion of students with disabilities scored below the basic level ¹ on the National Assessment of Educational Progress (NAEP) in both reading (4th grade: 70 percent; 8th grade: 67 percent) and math (4th grade: 49 percent; 8th grade: 72 percent) (U.S. Department of Education, 2015). In the 2011-12 school year, students with disabilities were more than twice as likely to receive an out-of-school suspension as their non-disabled peers, and over half (58 percent) were subjected to seclusion (U.S. Department of Education, 2014). Further, students with emotional disturbance or a specific learning disability were suspended at higher rates than other students with disabilities (Losen, Hodson, Ee, & Martinez, 2014). Nationally, in the 2011-12 school year, it is estimated that nearly 18 million instructional days were lost for all U.S. public school children due to exclusionary discipline (Losen, Hodson, Keith, Morrison, & Belway, 2015).

¹ For NAEP achievement level definitions, see: https://nces.ed.gov/nationsreportcard/achievement.aspx.

Significant and persistent academic and behavioral difficulties can limit success in school and postsecondary opportunities. A recent report suggests that the graduation rate for students with disabilities (61.9 percent) is much lower than the graduation rate for all students (81.4 percent) (DePaoli et al., 2015). Students with disabilities are also less likely to have enrolled in postsecondary education, have lower salaries when employed, and have higher involvement with the criminal justice system than their non-disabled peers (Sanford et al., 2011).

For some students, the typical evidence-based instruction and behavioral supports provided in the classroom are not sufficient to address their educational needs or prepare them for postsecondary opportunities. They will need individualized, more intensive intervention composed of practices that are evidence-based.

Interventions can be intensified in multiple ways (e.g., dosage, group size, intervention components, interventionist expertise) (e.g., Barnett, Daly, Jones, & Lentz, 2004; Codding & Lane, 2014; Daly, Martens, Barnett, Witt, & Olson, 2007; Mellard, McKnight, & Jordan, 2010; Warren, Fey, & Yoder, 2007), and for students at risk of, or identified as having, a disability, research has demonstrated the effectiveness of intensive interventions in improving reading outcomes (e.g., Allor, Mathes, Roberts, Cheatham, & Al Otaiba, 2014; Al Otaiba et al., 2014; Denton et al., 2013; Solis, Miciak, Vaughn, & Fletcher, 2014; Wanzek et al., 2013); mathematics outcomes (e.g., Bryant et al., 2014; Dennis, 2015; Fuchs, Fuchs, Powell, Seethaler, Cirino, & Fletcher, 2008; Gersten et al., 2009); and behavioral outcomes (e.g., Gage, Lewis, & Stichter, 2012; Goh & Bambara, 2012).

The co-occurrence of academic and behavioral difficulties has been well documented, yet the exact nature of the relationship is still not well understood (e.g., Algozzine, Wang, & Violette, 2011; Morgan & Sideridis, 2013). However, recent research on integrating academic and behavioral interventions has demonstrated promise for improving student outcomes (e.g., Algozzine et al., 2012; Chaparro, Smolkowski, Baker, Hanson, & Ryan-Jackson, 2012; Stewart, Benner, Martella, Marchand-Martella, 2007). In an analysis of academic, behavioral, and integrated academic and behavioral intervention models, Stewart et al. (2007) found greater gains in reading and behavior for the integrated intervention model than the academic or behavioral intervention models alone.

In short, there are students with disabilities who have persistent learning or behavior difficulties and who need intensive intervention to succeed in school and to be prepared for postsecondary opportunities. However, States, districts, and schools need assistance in developing or refining and coordinating their systems of instruction and intervention to address the needs of these students.

Research has identified numerous components within schools' systems of instruction and intervention that can make an intervention more or less effective and sustainable. For example, the need to improve educators' knowledge and use of evidence-based interventions through teacher preparation (e.g., Ciullo et al., 2015; Gable, Tonelson, Sheth, Wilson, & Park, 2012; Kern, Hilt-Panahon, & Sokol, 2009) and professional development (e.g., Bambara, Goh, Kern, & Caskie, 2012; Ciullo et al., 2015; Debnam, Pas, & Bradshaw, 2012; Kern, Hilt-Panahon, & Sokol, 2009; Regan, Berkeley, Hughes, & Brady, 2015) has been well documented. The need to improve educators' knowledge and use of culturally and linguistically responsive instruction for students with disabilities (e.g., Ford, 2012; Orosco & Klingner, 2010) has also been noted, as 91 percent of 4th and 89 percent of 8th grade students with disabilities who are English Learners (ELs) scored below the basic level in reading on the 2015 NAEP (U.S. Department of Education, 2015).

Another component that can facilitate or impede implementation and sustainability of an intervention is school culture (O'Connor & Freeman, 2012), particularly for students with persistent difficulties (e.g., Bambara et al., 2012). The leadership and organizational supports, such as scheduling, roles of staff, adequate planning time, professional development structure, evaluation, leadership support, policies, and funding (e.g., Bambara et al., 2012; Fixsen, Naoom, Blasé, Friedman, & Wallace, 2005; O'Connor & Freeman, 2012), can also facilitate or impede the effectiveness and sustainability of the system of instruction and intervention. Addressing academic and behavioral difficulties separately, instead of using an integrated approach, may result in inefficiencies in coordinating intervention. By using a more integrated approach, limited resources can be maximized and organizational structures and efficiency can be improved (e.g., Chaparro et al., 2012; Lane, Oakes, & Menzies, 2014; McIntosh, Bohanon, & Goodman, 2010).

As part of the recent emphasis in the Department's accountability efforts on improved results for students with disabilities, the Department required States under Indicator 17 of their IDEA Part B State Performance Plans/Annual Performance Reports (SPPs/APRs) to develop a State Systemic Improvement Plan (SSIP).² As part of the SSIP, States must identify the result(s) they intend to achieve through implementing the SSIP (referred to as the State Identified Measureable Result(s) (SIMR)). To date, 42 States are focusing on improving performance in reading, math, or both, and 12 States are focusing on increasing the graduation rate of children and youth with disabilities. States will need TA to support the implementation of their SSIP strategies to improve academic and behavior-related results.

² In accordance with section 616(b) of IDEA, States must have in place a performance plan that evaluates the State's efforts to implement the requirements and purposes of Part B of the IDEA and describes how the State will improve such implementation. As part of the SPP/APR, each State establishes measurable and rigorous targets for each indicator established by the Secretary. In the Results Driven Accountability System, OSERS required States under Indicator 17 to develop a SSIP as part of their Federal fiscal year (FFY) 2013 through FFY 2018 IDEA Part B SPPs/APRs. The SSIP must include: (1) FFY 2013 baseline data expressed as a percentage and aligned with the State-identified Measurable Result(s) (SIMR) for children with disabilities; (2) measurable and rigorous targets (expressed as a percentage) for each of the five years for FFY 2014 through FFY 2018, with the FFY 2018 target reflecting improvement over the FFY 2013 baseline data; and (3) a plan that includes an explanation of how the improvement strategies selected will lead to measurable improvement in the SIMR.

The priority established in this notice will fund a national center that will focus on intensive academic and behavioral interventions for students with disabilities with persistent learning or behavior difficulties, but not students with the most significant cognitive disabilities, as the needs of those students are targeted in other Office of Special Education Programs (OSEP) investments.

Priority:

The purpose of this priority is to fund a cooperative agreement to establish and operate a National Center for Students with Disabilities Who Require Intensive Intervention (Center). The Center will assist State educational agencies (SEAs) and local educational agencies (LEAs) in their efforts to support schools and educators in implementing intensive intervention composed of practices that are evidence-based (“intensive intervention”) for students with disabilities who have persistent learning or behavior difficulties and who need intensive intervention to succeed in school and be prepared for postsecondary opportunities (“students with disabilities who need intensive intervention”). The Center will give priority to those States with SIMRs that focus on academic or behavior-related results. The Center must achieve, at a minimum, the following expected outcomes:

(1) Increased LEA and educators' knowledge and use of intensive intervention in reading, mathematics, and behavior;

(2) Increased LEA and educators' knowledge and use of culturally and linguistically responsive intensive intervention, including intensive intervention for ELs with disabilities;

(3) Increased capacity of LEAs and schools to develop or refine and coordinate their system of instruction and intervention to implement intensive intervention in reading, mathematics, and behavior;

(4) Increased capacity of SEAs, LEAs, and educators to support, implement, and sustain intensive intervention in reading, mathematics, and behavior;

(5) Increased capacity of SEAs to support the efforts of LEAs to use intensive intervention to achieve the academic and behavior-related results identified in a State's SIMR;

(6) Increased knowledge and capacity of SEAs, LEAs, and educators to use and coordinate existing national, regional, State, and local resources (e.g., parent and family organizations, TA providers, mental health agencies and organizations, etc.) to better support, implement, and sustain intensive intervention in reading, mathematics, and behavior;

(7) Increased dissemination of lessons learned from implementing intensive intervention to inform State and local implementation efforts; and

(8) Increased capacity of institutions of higher education (IHEs) to prepare educators to coordinate instruction and intervention and support, implement, and sustain intensive intervention in reading, mathematics, and behavior.

In addition to these programmatic requirements, to be considered for funding under this priority, applicants must meet the application and administrative requirements in this priority. OSEP encourages innovative approaches to meet these requirements, which are:

(a) Demonstrate, in the narrative section of the application under “Significance of the Project,” how the proposed project will—

(1) Address the current training and information needs of LEAs and educators in providing intensive intervention to students with disabilities who need intensive intervention. To meet this requirement the applicant must—

(i) Present information and current data on the current capacity of LEAs and educators to address the needs of students with disabilities who need intensive intervention; and

(ii) Demonstrate knowledge of current educational issues around, and policy initiatives intended to address, the needs of students with disabilities who need intensive intervention; and

(2) Address the current and emerging needs of SEAs and LEAs in developing or refining and coordinating their systems of instruction and intervention for supporting, implementing, and sustaining intensive intervention.

(b) Demonstrate, in the narrative section of the application under “Quality of the Project Services,” how the proposed project will—

(1) Ensure equal access and treatment for members of groups that have historically been underrepresented based on race, color, national origin, gender, age, or disability. To meet this requirement, the applicant must describe how it will—

(i) Identify the needs of the intended recipients for TA and information; and

(ii) Ensure that services and products meet the needs of the intended recipients (e.g., by creating materials in formats accessible to and in languages understandable to the stakeholders served by the intended recipients);

(2) Achieve its goals, objectives, and intended outcomes. To meet this requirement, the applicant must provide—

(i) Measurable intended project outcomes; and

(ii) The logic model by which the proposed project will achieve its intended outcomes. A logic model communicates how a project will achieve its intended outcomes and provides a framework for both the formative and summative evaluations of the project;

(3) Use a conceptual framework to develop project plans and activities, describing any underlying concepts, assumptions, expectations, beliefs, or theories, as well as the presumed relationships or linkages among these variables, and any empirical support for this framework;

Note: Rather than use the definition of “logic model” in section 77.1(c) of EDGAR, OSEP uses the definition in paragraph (b)(2)(ii) of these application requirements. This definition, unlike the definition in 34 CFR 77.1(c), differentiates between logic models and conceptual frameworks. The following Web sites provide more information on logic models: www.researchutilization.org/matrix/logicmodel_resource3c.html and www.osepideasthatwork.org/logicModel/index.asp;

(4) Be based on current research and make use of evidence-based practices. To meet this requirement, the applicant must describe—

(i) The current research on the effectiveness of intensive intervention for students with disabilities who need intensive intervention;

(ii) The current research about adult learning principles and implementation science that will inform the proposed TA; and

(iii) How the proposed project will incorporate current research and evidence-based practices in the development and delivery of its products and services;

(5) Develop products and provide services that are of high quality and sufficient intensity and duration to achieve the intended outcomes of the proposed project. To address this requirement, the applicant must describe—

(i) How it proposes to identify or develop the knowledge base on coordinating systems of instruction and intervention and supporting, implementing, and sustaining intensive intervention for students with disabilities who need intensive intervention;

(ii) Its proposed approach to universal, general TA,³ which must identify the intended recipients of the products and services under this approach;

³ “Universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iii) Its proposed approach to targeted, specialized TA,⁴ which must identify—

⁴ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients of the products and services under this approach; and

(B) Its proposed approach to measure the readiness of potential TA recipients to work with the project, assessing, at a minimum, their current infrastructure, available resources, and ability to build capacity at the local level;

(C) Its proposed approach to working with IHEs to prepare educators to coordinate instruction and intervention and support, implement, and sustain intensive intervention in reading, mathematics, and behavior; and

(iv) Its proposed approach to intensive, sustained TA,⁵ which must identify—

⁵ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients of the products and services under this approach;

(B) Its proposed approach to measure the readiness of the SEAs, LEAs, and schools to work with the project, including their commitment to the initiative, alignment of the initiative to their needs, current infrastructure, available resources, and ability to build capacity at the district level;

(C) Its proposed plan for assisting LEAs to build or enhance training systems that include professional development based on adult learning principles and coaching;

(D) Its proposed plan for working with appropriate levels of the education system (e.g., SEAs, LEAs, schools) to ensure that there is communication between each level and that there are systems in place to support the use of intensive intervention;

(E) Its proposed plan for working with national, State, regional, and local TA providers and agencies (e.g., State TA providers, regional TA providers, Department-funded and other federally funded TA Centers, mental health agencies and organizations) and families to ensure that there is communication between each level and that there are systems in place to support the use of intensive intervention; and

(F) Its proposed plan for collaborating and coordinating with Department-funded TA investments, where appropriate, in order to align complementary work and jointly develop and implement products and services to implement intensive intervention;

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes.

(c) In the narrative section of the application under “Quality of the Evaluation Plan,” include an evaluation plan for the project as described in the following paragraphs. The evaluation plan must describe: Measures of progress in implementation, including the criteria for determining the extent to which the project's products and services have reached their target population; measures of intended outcomes or results of the project's activities in order to evaluate those activities; and how well the goals or objectives of the proposed project, as described in its logic model, have been met.

The applicant must provide an assurance that, in designing the evaluation plan, it will—

(1) Designate, with the approval of the OSEP project officer, a project liaison staff person with sufficient dedicated time, experience in evaluation, and knowledge of the project to work in collaboration with the Center to Improve Project Performance (CIPP),⁶ the project director, and the OSEP project officer on the following tasks:

⁶ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased TA in designing the evaluations with due consideration of the project's budget. CIPP does not function as a third-party evaluator.

(i) Revise, as needed, the logic model submitted in the grant application to provide for a more comprehensive measurement of implementation and outcomes and to reflect any changes or clarifications to the model discussed at the kick-off meeting;

(ii) Refine the evaluation design and instrumentation proposed in the grant application consistent with the logic model (e.g., prepare evaluation questions about significant program processes and outcomes; develop quantitative or qualitative data collections that permit both the collection of progress data, including fidelity of implementation, as appropriate, and the assessment of project outcomes; select respondent samples if appropriate; design instruments or identifying data sources; and identify analytic strategies); and

(iii) Revise, as needed, the evaluation plan submitted in the grant application such that it clearly—

(A) Specifies the measures and associated instruments or sources for data appropriate to the evaluation questions, suggests analytic strategies for those data, provides a timeline for conducting the evaluation, and includes staff assignments for completing the plan;

(B) Delineates the data expected to be available by the end of the second project year for use during the project's 3+2 review for continued funding described under the heading Fourth and Fifth Years of the Project; and

(C) Can be used to assist the project director and the OSEP project officer, with the assistance of CIPP, as needed, to specify the performance measures to be addressed in the project's Annual Performance Report;

(2) Cooperate with CIPP staff in order to accomplish the tasks described in paragraph (1) of this section; and

(3) Dedicate sufficient funds in each budget year to cover the costs of carrying out the tasks described in paragraphs (1) and (2) of this section and implementing the evaluation plan.

(d) Demonstrate, in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated to the project and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in Appendix A, a logic model that depicts, at a minimum, the goals, activities, outputs, and intended outcomes of the proposed project.

(2) Include, in Appendix A, a conceptual framework for the project;

(3) Include, in Appendix A, personnel-loading charts and timelines, as applicable, to illustrate the management plan described in the narrative;

(4) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' conference in Washington, DC, during each year of the project period;

(iii) Two annual two-day trips to attend Department briefings, Department-sponsored conferences, and other meetings, as requested by OSEP; and

(iv) A one-day intensive 3+2 review meeting in Washington, DC, during the last half of the second year of the project period;

(5) Include, in the budget, a line item for an annual set-aside of five percent of the grant amount to support emerging needs that are consistent with the proposed project's intended outcomes, as those needs are identified in consultation with, and approved by, the OSEP project officer. With approval from the OSEP project officer, the project must reallocate any remaining funds from this annual set-aside no later than the end of the third quarter of each budget period; and

(6) Maintain a Web site that meets government or industry-recognized standards for accessibility.

Fourth and Fifth Years of the Project:

In deciding whether to continue funding the project for the fourth and fifth years, the Secretary will consider the requirements of 34 CFR 75.253(a), as well as—

(a) The recommendation of a 3+2 review team consisting of experts selected by the Secretary. This review will be conducted during a one-day intensive meeting that will be held during the last half of the second year of the project period;

(b) The timeliness and effectiveness with which all requirements of the negotiated cooperative agreement have been or are being met by the project; and

(c) The quality, relevance, and usefulness of the project's products and services and the extent to which the project's products and services are aligned with the project's objectives and likely to result in the project achieving its intended outcomes.

References

Algozzine, B., Wang, C., & Violette, A. S. (2011). Reexamining the relationship between academic achievement and social behavior. Journal of Positive Behavior Interventions, 13, 3-16.

Algozzine, B., Wang, C., White, R., Cooke, N., Marr, M. B., Algozzine, K., Helf, S. S., & Duran, G. Z. (2012). Effects of multi-tier academic and behavior instruction on difficult-to-teach students. Exceptional Children, 79, 45-64.

Allor, J. H., Mathes, P. G., Roberts, J. K., Cheatham, J. P., & Al Otaiba, S. (2014). Is scientifically based reading instruction effective for students with below-average IQs? Exceptional Children, 80, 287-306.

Al Otaiba, S., Connor, C. M., Folsom, J., Wanzek, J., Greulich, L., Schatschneider, C., & Wagner, R. K. (2014). To wait in Tier 1 or intervene immediately: A randomized experiment examining first-grade response to intervention in reading. Exceptional Children, 81, 11-27.

Bambara, L. M., Goh, A., Kern, L., & Caskie, G. (2012). Perceived barriers and enablers to implementing individualized positive behavior interventions and supports in school settings. Journal of Positive Behavior Interventions, 14, 228-240.

Barnett, D. W., Daly, E. J., Jones, K. M., & Lentz, F. E. (2004). Response to intervention: Empirically based special service delivery decisions from single-case designs of increasing and decreasing intensity. The Journal of Special Education, 38, 66-79.

Bryant, B. R., Bryant, D. P., Porterfield, J., Dennis, M. S., Falcomata, T., Valentine, C., Brewer, C., & Bell, K. (2014). The effects of a Tier 3 intervention on the mathematics performance of second grade students with severe mathematics difficulties. Journal of Learning Disabilities. Advance online publication. doi: 10.1177/0022219414538516.

Chaparro, E. A., Smolkowski, K., Baker, S. K., Hanson, N., & Ryan-Jackson, K. (2012). A model for system-wide collaboration to support integrated social behavior and literacy evidence-based practices. Psychology in the Schools, 49, 465-482.

Ciullo, S., Lembke, E. S., Carlisle, A., Thomas, C. N., Goodwin, M., & Judd, L. (2015). Implementation of evidence-based literacy practices in middle school response to intervention: An observation study. Learning Disability Quarterly. Advance online publication. doi: 10.1177/0731948714566120.

Codding, R. S., & Lane, K. L. (2014). A spotlight on treatment intensity: An important and often overlooked component of intervention inquiry. Journal of Behavioral Education, 24, 1-10.

Daly, E. J., Martens, B. K., Barnett, D., Witt, J. C., & Olson, S. C. (2007). Varying intervention delivery in a response to intervention: Confronting and resolving challenges in instruction, measurement, and intensity. School Psychology Review, 36, 562-581.

Debnam, K. J., Pas, E. T., & Bradshaw, C. P. (2012). Secondary and tertiary support systems in schools implementing school-wide positive behavioral interventions and supports: A preliminary descriptive analysis. Journal of Positive Behavior Interventions, 14, 142-152.

Dennis, M. S. (2015). Effects of Tier 2 and Tier 3 mathematics interventions for second graders with mathematics difficulties. Learning Disabilities Research & Practice, 30, 29-42.

Denton, C. A., Tolar, T. D., Fletcher, J. M., Barth, A. E., Vaughn, S., & Francis, D. J. (2013). Effects of Tier 3 intervention for students with persistent reading difficulties and characteristics of inadequate responders. Journal of Educational Psychology, 105, 633-648.

DePaoli, J. L., Fox, J. H., Ingram, E. S., Maushard, M., Bridgeland, J. M., & Balfanz, R. (2015). 2015 Building a grad nation: Progress and challenge in ending the high school dropout epidemic. Retrieved from America's Promise Alliance Web site: http://gradnation.org/report/2015-building-grad-nation-report.

Fixsen, D. L., Naoom, S. F., Blasé, K. A., Friedman, R. M., & Wallace, F. (2005). Implementation research: A synthesis of the literature. Tampa, FL: University of South Florida, Louis de la Parte Florida Mental Health Institute.

Ford, D. Y. (2012). Culturally different students in special education: Looking backward to move forward. Exceptional Children, 78, 391-405.

Fuchs, L. S., Fuchs, D., Powell, S. R., Seethaler, P. M., Cirino, P. T., & Fletcher, J. M. (2008). Intensive intervention for students with mathematics disabilities: Seven principles of effective practice. Learning Disabilities Quarterly, 31, 79-92.

Gable, R. A., Tonelson, S. W., Sheth, M., Wilson, C., & Park, K. L. (2012). Importance, usage, and preparedness to implement evidence-based practices for students with emotional disabilities: A comparison of knowledge and skills of special education and general education teachers. Education & Treatment of Children, 35, 499-519.

Gage, N. A., Lewis, T. A., & Stichter, J. P. (2012). Functional behavioral assessment-based interventions for students with or at risk for emotional and/or behavioral disorders in school: A hierarchical linear modeling meta-analysis. Behavioral Disorders, 37, 55-77.

Gersten, R., Beckmann, S., Clarke, B., Foegen, A., Marsh, L., Star, J. R., & Witzel, B. (2009). Assisting students struggling with mathematics: Response to Intervention (RtI) for elementary and middle schools (NCEE 2009-4060). Washington, DC: National Center for Education Evaluation and Regional Assistance, Institute of Education Sciences, U.S. Department of Education. Retrieved from http://ies.ed.gov/ncee/wwc/PracticeGuide.aspx?sid=2.

Goh, A. E., & Bambara, L. M. (2012). Individualized positive behavior supports in school settings: A meta-analysis. Remedial and Special Education, 33, 271-286.

Kern, L., Hilt-Panahon, A., & Sokol, N. G. (2009). Further examining the triangle tip: Improving support for students with emotional and behavioral needs. Psychology in the Schools, 46, 18-32.

Lane, H. L., Oakes, W. P., & Menzies, H. M. (2014). Comprehensive, integrated, three-tiered models of prevention: Why does my school and district need an integrated approach to meet students' academic, behavioral, and social needs? Preventing School Failure: Alternative Education for Children and Youth, 58, 121-128.

Losen, D., Hodson, C., Ee, J., & Martinez, T. (2014). Disturbing inequities: Exploring the relationship between racial disparities in special education identification and discipline. Journal of Applied Research on Children: Informing Policy for Children at Risk, 5(2), Article 15. Retrieved from http://digitalcommons.library.tmc.edu/childrenatrisk/vol5/iss2/15.

Losen, D., Hodson, C., Keith, M. A., Morrison, K., & Belway, S. (2015). Are we closing the school discipline gap? Retrieved from The Civil Rights Project Web site: http://civilrightsproject.ucla.edu/resources/projects/center-for-civil-rights-remedies/school-to-prison-folder/federal-reports/are-we-closing-the-school-discipline-gap/AreWeClosingTheSchoolDisciplineGap_FINAL221.pdf.

McIntosh, K., Bohanon, H., & Goodman, S. (2010). Toward true integration of response to intervention systems in academic and behavior support: Part Three: Tier 3 support. Communiqué, 39, 30-31.

Mellard, D., McKnight, M., & Jordan, J. (2010). RTI tier structures and instructional intensity. Disabilities Research & Practice, 25, 217-225.

Morgan, P. L., & Sideridis, G. D. (2013). Academic and behavioral difficulties at school: Introduction to the special issue. Behavioral Disorders, 38, 193-200.

O'Connor, E. P., & Freeman, E. W. (2012). District-level considerations in supporting and sustaining RTI implementation. Psychology in the Schools, 49, 297-310.

Orosco, M. J., & Klingner, J. (2010). One school's implementation of RTI with English language learners: “Referring into RTI.” Journal of Learning Disabilities, 43, 269-288.

Regan, K. S., Berkeley, S. L., Hughes, M., & Brady, K. K. (2015). Understanding practitioner perceptions of responsiveness to intervention. Learning Disability Quarterly. Advance online publication. doi: 10.1177/0731948715580437.

Sanford, C., Newman, L., Wagner, M., Cameto, R., Knokey, M., & Shaver, D. (2011). The Post-High School Outcomes of Young Adults With Disabilities up to 6 Years After High School. Key findings from the National Longitudinal Transition Study-2 (NLTS2) (NCSER 2011-3004). Menlo Park, CA: SRI International. Retrieved from http://www.nlts2.org/reports/2011_09/index.html.

Solis, M., Miciak, J., Vaughn, S., & Fletcher, J. M. (2014). Why intensive interventions matter: Longitudinal studies of adolescents with reading disabilities and poor reading comprehension. Learning Disability Quarterly, 37, 218-229.

Stewart, R. M., Benner, G. J., Martella, R. C., & Marchand-Martella, N. E. (2007). Three-tier models of reading and behavior: A research review. Journal of Positive Behavior Interventions, 9, 239-253.

U.S. Department of Education. (2015). National assessment of educational progress [Data file]. Retrieved from http://nces.ed.gov/nationsreportcard/naepdata/.

U.S. Department of Education, Office for Civil Rights. (2014). Civil rights data collection data snapshot: School discipline. Retrieved from: https://www2.ed.gov/about/offices/list/ocr/docs/crdc-discipline-snapshot.pdf.

Wanzek, J., Vaughn, S., Scammacca, N. K., Metz, K., Murray, C. S., Roberts, G., & Danielson, L. (2013). Extensive reading interventions for students with reading difficulties after grade 3. Review of Educational Research, 83, 163-195.

Warren, S. F., Fey, M. E., & Yoder, P. J. (2007). Differential treatment intensity research: A missing link to creating optimally effective communication interventions. Mental Retardation and Developmental Disabilities Research Reviews, 13, 70-77.

Definitions:

For the purposes of this priority:

Evidence-based means supported by strong theory.

Strong theory means a rationale for the proposed process, product, strategy, or practice that includes a logic model.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1463 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian tribes.

Note: The regulations in 34 CFR part 86 apply to IHEs only.

II. Award Information

Type of Award: Cooperative agreement.

Estimated Available Funds: $2,100,000.

Contingent upon the availability of funds and the quality of applications, we may make additional awards in FY 2017 from the list of unfunded applications from this competition.

Maximum Award: We will reject any application that proposes a budget exceeding $2,100,000 for a single budget period of 12 months.

Estimated Number of Awards: 1.

Note: The Department is not bound by any estimates in this notice.

Project Period: Up to 36 months with an optional additional 24 months based on performance. Applications must include plans for both the 36-month award and the 24-month extension.

III. Eligibility Information

1. Eligible Applicants: SEAs; LEAs, including public charter schools that operate as LEAs under State law; IHEs; other public agencies; private nonprofit organizations; freely associated States and outlying areas; Indian tribes or tribal organizations; and for-profit organizations.

2. Cost Sharing or Matching: This program does not require cost sharing or matching.

3. Eligible Subgrantees: (a) Under 34 CFR 75.708(b) and (c) a grantee may award subgrants—to directly carry out project activities described in its application—to the following types of entities: SEAs; LEAs, including public charter schools that operate as LEAs under State law; IHEs; other public agencies; private nonprofit organizations; freely associated States and outlying areas; Indian tribes or tribal organizations; and for-profit organizations suitable to carry out the activities proposed in the application.

(b) The grantee may award subgrants to entities it has identified in an approved application.

4. Other General Requirements:

(a) Recipients of funding under this competition must make positive efforts to employ and advance in employment qualified individuals with disabilities (see section 606 of IDEA).

(b) Each applicant for, and recipient of, funding under this program must involve individuals with disabilities, or parents of individuals with disabilities ages birth through 26, in planning, implementing, and evaluating the project (see section 682(a)(1)(A) of IDEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this competition as follows: CFDA number 84.326Q.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to no more than 70 pages, using the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial. An application submitted in any other font (including Times Roman or Arial Narrow) will not be accepted.

The page limit and double-spacing requirements do not apply to Part I, the cover sheet; Part II, the budget section, including the narrative budget justification; Part IV, the assurances and certifications; or the abstract (follow the guidance provided in the application package for completing the abstract), the table of contents, the list of priority requirements, the resumes, the reference list, the letters of support, or the appendices. However, the page limit and double-spacing requirements do apply to all of Part III, the application narrative, including all text in charts, tables, figures, graphs, and screen shots.

We will reject your application if you exceed the page limit in the application narrative section or if you apply standards other than those specified in this notice and the application package.

3. Submission Dates and Times:

Applications Available: March 14, 2016.

Deadline for Transmittal of Applications: April 28, 2016.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: June 27, 2016.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the National Center for Students with Disabilities Who Require Intensive Intervention competition, CFDA number 84.326Q, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the National Center for Students with Disabilities Who Require Intensive Intervention competition at www.Grants.gov. You must search for the downloadable application package for this competition by the CFDA number. Do not include the CFDA number's alpha suffix in your search (e.g., search for 84.326, not 84.326Q).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a read-only, non-modifiable Portable Document Format (PDF). Do not upload an interactive or fillable PDF file. If you upload a file type other than a read-only, non-modifiable PDF (e.g., Word, Excel, WordPerfect, etc.) or submit a password-protected file, we will not review that material. Please note that this could result in your application not being considered for funding because the material in question—for example, the project narrative—is critical to a meaningful review of your proposal. For that reason it is important to allow yourself adequate time to upload all material as PDF files. The Department will not convert material from other formats to PDF. Additional, detailed information on how to attach files is in the application instructions.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Celia Rosenquist, U.S. Department of Education, 400 Maryland Avenue SW., Room 5146, Potomac Center Plaza, Washington, DC 20202-5076. FAX: (202) 245-7590.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.326Q) LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.326Q) 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Risk Assessment and Special Conditions: Consistent with 2 CFR 200.205, before awarding grants under this competition the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: Under the Government Performance and Results Act of 1993 (GPRA), the Department has established a set of performance measures, including long-term measures, that are designed to yield information on various aspects of the effectiveness and quality of the Technical Assistance and Dissemination to Improve Services and Results for Children With Disabilities program. For purposes of this priority, the Center will use these measures, which focus on the extent to which projects provide high-quality products and services, the relevance of project products and services to educational and early intervention policy and practice, and the use of products and services to improve educational and early intervention policy and practice.

Projects funded under this competition are required to submit data on these measures as directed by OSEP.

Grantees will be required to report information on their project's performance in annual and final performance reports to the Department (34 CFR 75.590).

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

For Further Information Contact: Celia Rosenquist, U.S. Department of Education, 400 Maryland Avenue SW., Room 5146, Potomac Center Plaza, Washington, DC 20202-5076. Telephone: (202) 245-7373.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5037, Potomac Center Plaza, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: March 9, 2016.
Michael K. Yudin,
Assistant Secretary for Special Education and Rehabilitative Services.

[FR Doc. 2016-05759 Filed 3-11-16; 8:45 am]

BILLING CODE 4000-01-P